ENVIRONMENTAL PROTECTION AGENCY

40 CFR Part 22

[EPA-HQ-OECA-2014-0551; FRL-9922-62-OECA]

Consolidated Rules of Practice Governing the Administrative Assessment of Civil Penalties, Issuance of Compliance or Corrective Action Orders, and the Revocation, Termination or Suspension of Permits; Correction

AGENCY: Environmental Protection Agency.

ACTION: Correcting amendment.

SUMMARY: The Environmental Protection Agency (EPA) published a document in the Federal Register on November 6, 2014. That document included the correct mailing and hand delivery addresses for the Environmental Appeals Board, but inadvertently failed to omit the incorrect addresses. This amendment deletes the incorrect addresses.

DATES: Effective on March 13, 2015.

FOR FURTHER INFORMATION CONTACT: Ammie Roseman-Orr, Environmental Appeals Board, U.S. Environmental Protection Agency, William Jefferson Clinton Building East, Room 3332, 1200 Pennsylvania Ave. NW., Mail Code 1103M, Washington DC 20460, phone number (202) 233-0122 or by email at roseman-orr.ammie@epa.gov.

SUPPLEMENTARY INFORMATION:

Background

The rule amendment published on November 6, 2014 (79 FR 65897), corrected the mailing and hand delivery addresses for the Environmental Appeals Board in § 22.5(a) to reflect the Board's relocation. The rule also revised § 22.30(a)(1) by adding a reference to the corrected addresses in § 22.5(a). This amendment, however, inadvertently did not omit the Board's incorrect addresses in the second and third sentences of § 22.30(a)(1).

Need for Correction

As published on November 6, 2014 (79 FR 65897), the final regulation contains an error which may prove to be misleading and is in need of clarification.

List of Subjects in 40 CFR Part 22

Environmental protection, Administrative practice and procedure, Air pollution control, Hazardous substances, Hazardous waste, Penalties, Pesticides and pests, Poison prevention, Water pollution control.

Dated: February 19, 2015.
Nanci E. Gelb,
Acting Assistant Administrator, Office of Administration and Resources Management.

Accordingly, 40 CFR part 22 is corrected by making the following correcting amendment:

PART 22—CONSOLIDATED RULES OF PRACTICE GOVERNING THE ADMINISTRATIVE ASSESSMENT OF CIVIL PENALTIES AND THE REVOCATION, TERMINATION OR SUSPENSION OF PERMITS

1. The authority citation for part 22 continues to read as follows:

Authority: 7 U.S.C. 136(l); 15 U.S.C. 2615; 33 U.S.C. 1319, 1342, 1361, 1415 and 1418; 42 U.S.C. 300g-3(g), 6912, 6925, 6928, 6991e and 6992d; 42 U.S.C. 7413(d), 7524(c), 7545(d), 7547, 7601 and 7607(a), 9609, and 11045.

§ 22.30 [Corrected]

2. In § 22.30, paragraph (a)(1) is amended by removing the second and third sentences.

[FR Doc. 2015-05438 Filed 3-12-15; 8:45 am]

BILLING CODE 6560-50-P